DEPARTMENT OF DEFENSE

Office of Secretary of Defense

[DOD-2007-OS-0013]

Privacy Act of 1974; System of Records

AGENCY: Defense Intelligence Agency, DoD.

ACTION: Notice to Add a System of Records.

SUMMARY: The Defense Intelligence Agency is proposing to add a system of records to its existing inventory of records systems subject to the Privacy Act of 1974, (5 U.S.C. 552a), as amended.

DATES: The proposed action will be effective on March 29, 2007 unless comments are received that would result in a contrary determination.

ADDRESSES: Freedom of Information Office, Defense Intelligence Agency (DAN-1A), 200 MacDill Blvd, Washington, DC 20340-5100.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the address above.

The proposed system report, as required by 5 U.S.C. 552a(r) of the Privacy Act of 1974, as amended, was submitted on February 16, 2007, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: February 20, 2007.
C.R. Choate,
Alternate OSD Federal Register Liaison Officer, Department of Defense.

LDIA 05-0002

System name:

Retiree Database.

System location:

Defense Intelligence Agency, 200 MacDill Blvd, Washington, DC 20340-0001.

Categories of individuals covered by the system:

Retired Department of Defense military and civilian personnel living abroad who are willing to volunteer information of actual, apparent or potential use for the Department of Defense.

Categories of records in the system:

Information includes but is not limited to names, Social Security Number, home address, phone number, e-mail address, current profession or military specialty, country residing in, time in country, and language proficiency.

Authority for maintenance of the system:

The National Security Act of 1947, as amended, (50 U.S.C. 401 et seq.) 10 U.S.C. 113, Militia: composition and classes; 5 U.S.C. 301, Departmental Regulations; and E.O. 9397 (SSN).

Purpose(s):

The purpose of this system is to support the administration, operation, and management of the Department of Defense Expatriate Contact Program.

Routine uses of records maintained in the system, including categories of users and the purposes of such uses:

In addition to those disclosures generally permitted under 5 U.S.C. 552a(b) of the Privacy Act, these records or information contained therein may specifically be disclosed outside the Department of Defense as a routine use pursuant to 5 U.S.C. 552a(b)(3) as follows:

The DoD “Blanket Routine Uses” set forth at the beginning of the Defense Intelligence Agency's compilation of systems of records notices apply to this system.

Policies and practices for storing, retrieving, accessing, retaining, and disposing of records in the system:

Storage:

Paper records and electronic storage media.

Retrievability:

Name, Social Security Number, and address.

Safeguards:

Records are maintained in a building protected by security guards and are stored in vaults, safes or locked cabinets and are accessible only to authorized personnel who are properly screened, cleared and trained in the protection of privacy information. Manual records and computer printouts are available only to authorized personnel having a need-to-know. Records will be maintained on a secure, password protected server.

Retention and disposal:

Master files are permanent. Temporary records are destroyed.

System manager(s) and address:

Directorate for Human Intelligence, Defense Intelligence Agency, 200 MacDill Blvd., Washington, DC 20340-5339.

Notification procedure:

Individuals seeking to determine whether information about themselves is contained in this system of records should address written inquiries to the Freedom of Information Office, Defense Intelligence Agency (DAN-1A), 200 MacDill Blvd, Washington, DC 20340-5100.

Individuals should provide their full name, current address, telephone number, and Social Security Number.

Record access procedures:

Individuals seeking access to information about themselves, contained in this system of records, should address written inquiries to the Freedom of Information Office, Defense Intelligence Agency (DAN-1A), 200 MacDill Blvd, Washington, DC 20340-5100.

Individuals should provide their full name, current address, telephone number, and Social Security Number.

Contesting record procedures:

The Defense Intelligence Agency's rules for accessing records, for contesting contents and appealing initial agency determinations are published in DIA Regulation 12-12 “Defense Intelligence Agency Privacy Program”; 32 CFR part 319—Defense Intelligence Agency Privacy Program; or may be obtained from the system manager.

Record source categories:

From the individual, DIA records and reports, and other sources providing or containing pertinent information.

Exemptions claimed for the system:

None.

[FR Doc. E7-3303 Filed 2-26-07; 8:45 am]

BILLING CODE 5001-06-P